EXPORT-IMPORT BANK

[Public Notice 2013-3001]

Agency Information Collection Activities: Comment Request

AGENCY: Export-Import Bank of the United States.

ACTION: Submission for OMB Review and Comments Request.

Form Title: EIB 92-51 Application for Special Buyer Credit Limit under the Multi-Buyer Export Credit Insurance Policy.

SUMMARY: The Export-Import Bank of the United States (Ex-Im Bank), as a part of its continuing effort to reduce paperwork and respondent burden, invites the general public and other Federal Agencies to comment on the proposed information collection, as required by the Paperwork Reduction Act of 1995.

The Application for Special Buyer Credit Limit under the Multi-Buyer Export Credit Insurance Policy is used by 2,500 policyholders, the majority of whom are U.S. small businesses, who export U.S. goods and services. This application provides Ex-Im Bank with the credit information necessary to make a determination of eligibility of a transaction for Ex-Im Bank support with a foreign buyer credit request and to obtain legislatively required assurance of repayment and fulfills other statutory requirements.

The application can be reviewed at: www.exim.gov/pub/pending/eib92-51.pdf Application for Special buyer credit Limit Multi-buyer Credit Insurance Policy.

DATES: Comments should be received on or before July 8, 2013 to be assured of consideration.

ADDRESSES: Comments may be submitted electronically on WWW.REGULATIONS.GOV (EIB-2013-0117) or by mail to Office of Information and Regulatory Affairs, 725 17th Street NW., Washington, DC 20038 Attn: OMB 3048-EIB12-01.

SUPPLEMENTARY INFORMATION: Titles and Form Number: EIB 92-51 Application for Special buyer credit Limit Multi-buyer Credit Insurance Policy.

OMB Number: 3048-0015.

Type of Review: Regular.

Need and Use: The information requested enables the applicant to provide Ex-Im Bank with the information necessary to obtain legislatively required assurance of repayment and fulfills other statutory requirements.

The number of respondents; 3,400.

Estimated time per respondents: 30 minutes.

The frequency of response; Annually.

Annual hour burden; 1,700 total hours.

Government Expenses

Reviewing time per hour: 1 hour.

Responses per year: 3,400.

Reviewing time per year: 3,400 hours.

Average Wages per hour: $30.25.

Average cost per year (time * wages): $102,850.

Benefits and overhead: 28%.

Total Government Cost: $131,641.

Kalesha Malloy,
Agency Clearance Officer.

[FR Doc. 2013-13493 Filed 6-6-13; 8:45 am]

BILLING CODE 6690-01-P